DEPARTMENT OF ENERGY

Federal Energy Regulatory Commission

Combined Notice of Filings #1

Take notice that the Commission received the following electric rate filings:

Docket Numbers: ER10-1945-005; ER10-2042-017; ER10-2039-005; ER10-1938-012; ER10-1934-011; ER10-1893-011; ER10-1871-005; ER10-1406-003; ER10-1862-011.

Applicants: Auburndale Peaker Energy Center, LLC, Calpine Energy Services, L.P., Calpine Newark, LLC, Calpine Power America—CA, LLC, CES Marketing IX, LLC, CES Marketing X, LLC, Morgan Energy Center, LLC, Osprey Energy Center, LLC, Power Contract Financing, L.L.C.

Description: Updated Market Power Analysis of the Calpine Southeast MBR Sellers under ER10-1945, et. al.

Filed Date: 12/31/14.

Accession Number: 20141231-5087.

Comments Due: 5 p.m. ET 3/2/15.

Docket Numbers: ER10-1946-008; ER11-3864-011; ER10-3233-001; ER10-3231-001.

Applicants: Broad River Energy LLC, EquiPower Resources Management, LLC, Wheelabrator Ridge Energy Inc., Wheelabrator South Broward Inc.

Description: Triennial Market Power Analysis of the ECP MBR Sellers under ER10-1946, et. al.

Filed Date: 12/31/14.

Accession Number: 20141231-5123.

Comments Due: 5 p.m. ET 3/2/15.

Docket Numbers: ER10-2819-003; ER14-413-001; ER14-1397-002; ER14-1390-002; ER10-2358-004.

Applicants: ALLETE, Inc., ALLETE Clean Energy, Inc., Storm Lake Power Partners I LLC, Storm Lake Power Partners II, LLC, Lake Benton Power Partners LLC.

Description: Triennial Market Power Analysis Update for Central Region of ALLETE, Inc., et. al. under ER10-2819, et. al.

Filed Date: 12/30/14.

Accession Number: 20141230-5283.

Comments Due: 5 p.m. ET 3/2/15.

Docket Numbers: ER13-68-003.

Applicants: Portland General Electric Company.

Description: Compliance filing per 35: Att K Fourth Regional Compliance Filing to be effective 10/1/2013.

Filed Date: 12/30/14.

Accession Number: 20141230-5186.

Comments Due: 5 p.m. ET 1/20/15.

Docket Numbers: ER14-2156-001.

Applicants: Midcontinent Independent System Operator, Inc.

Description: Compliance filing per 35: 2014-12-30 Ramp Compliance to be effective 12/31/9998.

Filed Date: 12/30/14.

Accession Number: 20141230-5258.

Comments Due: 5 p.m. ET 1/20/15.

Docket Numbers: ER15-765-000.

Applicants: Midcontinent Independent System Operator, Inc.

Description: § 205(d) rate filing per 35.13(a)(2)(iii): 2014-12-30_SA 6509 White Pine SSR Unit 2 to be effective 1/1/2015.

Filed Date: 12/30/14.

Accession Number: 20141230-5237.

Comments Due: 5 p.m. ET 1/20/15.

Docket Numbers: ER15-766-000.

Applicants: Nevada Power Company.

Description: § 205(d) rate filing per 35.13(a)(2)(iii): Rate Schedule No. 147 NPC Concurrence with SCE RS 500 to be effective 11/22/2014.

Filed Date: 12/30/14.

Accession Number: 20141230-5243.

Comments Due: 5 p.m. ET 1/20/15.

Docket Numbers: ER15-767-000.

Applicants: Midcontinent Independent System Operator, Inc.

Description: § 205(d) rate filing per 35.13(a)(2)(iii): 2014-12-30_Schedule 43I White Pine SSR Unit 2 to be effective 1/1/2015.

Filed Date: 12/30/14.

Accession Number: 20141230-5244.

Comments Due: 5 p.m. ET 1/20/15.

Docket Numbers: ER15-768-000.

Applicants: Baconton Power LLC.

Description: Compliance filing per 35.37: Market Power Analysis Update to be effective 12/31/2014.

Filed Date: 12/30/14.

Accession Number: 20141230-5246.

Comments Due: 5 p.m. ET 3/2/15.

Docket Numbers: ER15-769-000.

Applicants: Midcontinent Independent System Operator, Inc.

Description: § 205(d) rate filing per 35.13(a)(2)(iii): 2014-12-30 ARR Zone Weighting Factor Calculation to be effective 1/1/2015.

Filed Date: 12/30/14.

Accession Number: 20141230-5247.

Comments Due: 5 p.m. ET 1/20/15.

Docket Numbers: ER15-770-000.

Applicants: NorthWestern Corporation.

Description: § 205(d) rate filing per 35.13(a)(2)(iii): SA 31 Twelfth Revised—NITSA with ConocoPhillips to be effective 3/1/2015.

Filed Date: 12/30/14.

Accession Number: 20141230-5257.

Comments Due: 5 p.m. ET 1/20/15.

Docket Numbers: ER15-771-000.

Applicants: NorthWestern Corporation.

Description: § 205(d) rate filing per 35.13(a)(2)(iii): SA 304 Eighth Revised—NITSA with Barretts Minerals Inc to be effective 3/1/2015.

Filed Date: 12/30/14.

Accession Number: 20141230-5262.

Comments Due: 5 p.m. ET 1/20/15.

Docket Numbers: ER15-772-000.

Applicants: ALLETE, Inc.

Description: Compliance filing per 35: Revisions to MBR Tariff to be effective 3/1/2015.

Filed Date: 12/30/14.

Accession Number: 20141230-5263.

Comments Due: 5 p.m. ET 1/20/15.

Docket Numbers: ER15-773-000.

Applicants: NorthWestern Corporation.

Description: § 205(d) rate filing per 35.13(a)(2)(iii): SA 312 Sixth Revised—NITSA with Southern Montana Co-op to be effective 3/1/2015.

Filed Date: 12/30/14.

Accession Number: 20141230-5264.

Comments Due: 5 p.m. ET 1/20/15.

Docket Numbers: ER15-774-000.

Applicants: Southwest Power Pool, Inc.

Description: § 205(d) rate filing per 35.13(a)(2)(iii): Revisions Addressing Regulation Compensation and Mitigation of Regulation Offers to be effective 3/1/2015.

Filed Date: 12/30/14.

Accession Number: 20141230-5265.

Comments Due: 5 p.m. ET 1/20/15.

Docket Numbers: ER15-775-000.

Applicants: Pacific Gas and Electric Company.

Description: § 205(d) rate filing per 35.13(a)(2)(iii): CCSF IA—2015 Annual Transmission Rate Adjustment to be effective 1/1/2015.

Filed Date: 12/30/14.

Accession Number: 20141230-5266.

Comments Due: 5 p.m. ET 1/20/15.

Docket Numbers: ER15-776-000.

Applicants: NorthWestern Corporation.

Description: § 205(d) rate filing per 35.13(a)(2)(iii): SA 605 Fourth Revised—NITSA with Bonneville Power Administration to be effective 3/1/2015.

Filed Date: 12/30/14.

Accession Number: 20141230-5267.

Comments Due: 5 p.m. ET 1/20/15.

Docket Numbers: ER15-777-000.

Applicants: NorthWestern Corporation.

Description: § 205(d) rate filing per 35.13(a)(2)(iii): SA 666 Second Revised—NITSA with Suiza Diary Group LLC to be effective 7/1/2015.

Filed Date: 12/30/14.

Accession Number: 20141230-5273.

Comments Due: 5 p.m. ET 1/20/15.

Docket Numbers: ER15-778-000.

Applicants: NorthWestern Corporation.

Description: § 205(d) rate filing per 35.13(a)(2)(iii): SA 243 Seventh Revised—NITSA with CHS Inc to be effective 3/1/2015.

Filed Date: 12/30/14.

Accession Number: 20141230-5282.

Comments Due: 5 p.m. ET 1/20/15.

Docket Numbers: ER15-779-000.

Applicants: NorthWestern Corporation.

Description: § 205(d) rate filing per 35.13(a)(2)(iii): SA 32 Fifth Revised—NITSA with Colstrip Steam Electric Station to be effective 3/1/2015.

Filed Date: 12/31/14.

Accession Number: 20141231-5000.

Comments Due: 5 p.m. ET 1/21/15.

Docket Numbers: ER15-780-000.

Applicants: New England Power Pool Participants Committee.

Description: § 205(d) rate filing per 35.13(a)(2)(iii): January 2015 Membership Filing to be effective 12/1/2014.

Filed Date: 12/31/14.

Accession Number: 20141231-5002.

Comments Due: 5 p.m. ET 1/21/15.

Docket Numbers: ER15-781-000.

Applicants: NorthWestern Corporation.

Description: § 205(d) rate filing per 35.13(a)(2)(iii): SA 290 Fourth Revised—NITSA with Holcim US Inc to be effective 3/1/2015.

Filed Date: 12/31/14.

Accession Number: 20141231-5003.

Comments Due: 5 p.m. ET 1/21/15.

Docket Numbers: ER15-782-000.

Applicants: Las Vegas Cogeneration Limited Partnership.

Description: Tariff Withdrawal per 35.15: Cancellation of Tariff to be effective 12/31/2014.

Filed Date: 12/31/14.

Accession Number: 20141231-5004.

Comments Due: 5 p.m. ET 1/21/15.

Docket Numbers: ER15-783-000.

Applicants: Las Vegas Cogeneration II, L.L.C.

Description: Tariff Withdrawal per 35.15: Cancellation of Tariff to be effective 12/31/2014.

Filed Date: 12/31/14.

Accession Number: 20141231-5005.

Comments Due: 5 p.m. ET 1/21/15.

Docket Numbers: ER15-784-000.

Applicants: ArcLight Energy Marketing, LLC.

Description: § 205(d) rate filing per 35.13(a)(2)(iii): Revised Tariff re Category 1 in SE to be effective 1/1/2015.

Filed Date: 12/31/14.

Accession Number: 20141231-5069.

Comments Due: 5 p.m. ET 1/21/15.

Docket Numbers: ER15-785-000.

Applicants: Calpine Newark, LLC.

Description: Tariff Withdrawal per 35.15: Notice of Cancellation to be effective 1/1/2015.

Filed Date: 12/31/14.

Accession Number: 20141231-5071.

Comments Due: 5 p.m. ET 1/21/15.

Docket Numbers: ER15-786-000.

Applicants: Midcontinent Independent System Operator, Inc.

Description: § 205(d) rate filing per 35.13(a)(2)(iii): 2014-12-31_SA 2523 ITC-Pheasant Run Wind 3rd Rev. GIA (J075) to be effective 1/1/2015.

Filed Date: 12/31/14.

Accession Number: 20141231-5073.

Comments Due: 5 p.m. ET 1/21/15.

Docket Numbers: ER15-787-000.

Applicants: Southwest Power Pool, Inc.

Description: § 205(d) rate filing per 35.13(a)(2)(iii): 1148R20 American Electric Power NITSA and NOA to be effective 12/1/2014.

Filed Date: 12/31/14.

Accession Number: 20141231-5075.

Comments Due: 5 p.m. ET 1/21/15.

Docket Numbers: ER15-788-000.

Applicants: Southwest Power Pool, Inc.

Description: § 205(d) rate filing per 35.13(a)(2)(iii): Tariff Revisions Regarding Thresholds for Uneconomic Production Investigation to be effective 3/1/2014.

Filed Date: 12/31/14.

Accession Number: 20141231-5085.

Comments Due: 5 p.m. ET 1/21/15.

Docket Numbers: ER15-789-000.

Applicants: Southwest Power Pool, Inc.

Description: § 205(d) rate filing per 35.13(a)(2)(iii): 2236R5 Golden Spread Electric Cooperative, Inc. NITSA/NOA to be effective 12/1/2014.

Filed Date: 12/31/14.

Accession Number: 20141231-5086.

Comments Due: 5 p.m. ET 1/21/15.

Docket Numbers: ER15-790-000.

Applicants: Shell Chemical LP.

Description: § 205(d) rate filing per 35.13(a)(2)(iii): Revised MBR re Cateogry 1 in SE to be effective 1/1/2015.

Filed Date: 12/31/14.

Accession Number: 20141231-5088.

Comments Due: 5 p.m. ET 1/21/15.

Docket Numbers: ER15-791-000.

Applicants: Motiva Enterprises LLC.

Description: § 205(d) rate filing per 35.13(a)(2)(iii): Revised MBR re Category 1 SE Region to be effective 1/1/2015.

Filed Date: 12/31/14.

Accession Number: 20141231-5089.

Comments Due: 5 p.m. ET 1/21/15.

Docket Numbers: ER15-792-000.

Applicants: PJM Interconnection, L.L.C.

Description: § 205(d) rate filing per 35.13(a)(2)(iii): Original Service Agreement No. 4061; Queue No. X1-027A_AT12 to be effective 12/2/2014.

Filed Date: 12/31/14.

Accession Number: 20141231-5090.

Comments Due: 5 p.m. ET 1/21/15.

Docket Numbers: ER15-793-000.

Applicants: Southern Indiana Gas and Electric Company.

Description: Compliance filing per 35.37: SIGECO (“Vectren South”) Triennial MBR Update to be effective 3/1/2015.

Filed Date: 12/31/14.

Accession Number: 20141231-5117.

Comments Due: 5 p.m. ET 3/2/15.

Docket Numbers: ER15-794-000.

Applicants: Catalyst Paper Operations Inc.

Description: Initial rate filing per 35.12 Catalyst Paper Operations MBR Applicatiom to be effective 12/31/9998.

Filed Date: 12/31/14.

Accession Number: 20141231-5134.

Comments Due: 5 p.m. ET 1/21/15.

Docket Numbers: ER15-795-000.

Applicants: AL Sandersville, LLC.

Description: Compliance filing per 35.37: Triennial Update Market Power Analysis Filing for SE Region & Tariff Amendment to be effective 1/1/2015.

Filed Date: 12/31/14.

Accession Number: 20141231-5139.

Comments Due: 5 p.m. ET 3/2/15.

Docket Numbers: ER15-796-000.

Applicants: Effingham County Power, LLC.

Description: Compliance filing per 35.37: Triennial Update Market Power Analysis Filing for SE Region & Tariff Amendment to be effective 1/1/2015.

Filed Date: 12/31/14.

Accession Number: 20141231-5140.

Comments Due: 5 p.m. ET 3/2/15.

Docket Numbers: ER15-797-000.

Applicants: Walton County Power, LLC.

Description: Compliance filing per 35.37: Triennial Update Market Power Analysis for SE Region & Tariff Amendment to be effective 1/1/2015.

Filed Date: 12/31/14.

Accession Number: 20141231-5141.

Comments Due: 5 p.m. ET 3/2/15.

Docket Numbers: ER15-798-000.

Applicants: MPC Generating, LLC.

Description: Compliance filing per 35.37: Triennial Update Market Power Analysis Filing for SE Region & Tariff Amendment effective 1/1/2015.

Filed Date: 12/31/14.

Accession Number: 20141231-5142.

Comments Due: 5 p.m. ET 3/2/15.

Docket Numbers: ER15-799-000.

Applicants: Washington County Power, LLC.

Description: Compliance filing per 35.37: Triennial Update Market Power Analysis Filing for SE Region & Tariff Amendment to be effective 1/1/2015.

Filed Date: 12/31/14.

Accession Number: 20141231-5143.

Comments Due: 5 p.m. ET 3/2/15.

Docket Numbers: ER15-800-000.

Applicants: Entergy Arkansas, Inc.

Description: Compliance filing per 35.37: Triennial Market Power Update of Entergy Arkansas, Inc. to be effective N/A.

Filed Date: 12/31/14.

Accession Number: 20141231-5144.

Comments Due: 5 p.m. ET 3/2/15.

Take notice that the Commission received the following qualifying facility filings:

Docket Numbers: QF89-198-009; EL15-35-000.

Applicants: Kalaeloa Partners, L.P.

Description: Form 556 and Petition for Recertification as a Qualifying Cogeneration Facility and Temporary Limited Waiver of the Qualifying Facility Standards for 2014 of Kalaeloa Partners, L.P. under QF89-198, et. al.

Filed Date: 12/29/14.

Accession Number: 20141229-5210.

Comments Due: 5 p.m. ET 12/19/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 31, 2014.
Nathaniel J. Davis, Sr.,
Deputy Secretary.

[FR Doc. 2015-00005 Filed 1-6-15; 8:45 am]

BILLING CODE 6717-01-P